DEPARTMENT OF HOUSING AND URBAN DEVELOPMENT

[Docket No. FR-4950-FA-33]

Announcement of Funding Awards for the Housing Opportunities for People Who Are Homeless and Addicted to Alcohol Program; Fiscal Year 2005

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Housing Opportunities for People who are Homeless and Addicted to Alcohol Program. This announcement contains the names of the awardees and the amounts of the awards made available by HUD.

FOR FURTHER INFORMATION CONTACT: Robyn Raysor, Deputy Director, Office of Special Needs Assistance Programs, Office of Community Planning and Development, 451 Seventh Street, SW., Room 7262, Washington, DC 20410-7000; telephone (202) 708-4300 (this is not a toll-free number). Hearing- and speech-impaired persons may access this number via TTY by calling the Federal Relay Service toll-free at (800) 877-8339. For general information on this and other HUD programs, call Community Connections at (800) 998-9999 or visit the HUD Web site at http://www.hud.gov.

SUPPLEMENTARY INFORMATION: The Fiscal Year 2005 Housing Opportunities for People who are Homeless and Addicted to Alcohol Program was designed to provide supportive housing assistance to chronically homeless persons who have been living on the streets for at least three-hundred sixty-five (365) days over the last five (5) years and have a long term addiction to alcohol, otherwise known as serial inebriates. Clients served by these funds will have been living on the streets at the time of initial contact and will have no history of living in transitional or permanent housing over the last five years.

The competition was announced in the SuperNOFA published March 21, 2005 (70 FR 14135). The NOFA allowed for approximately $10,000,000 to award approximately ten two-year grants that averaged approximately $1,000,000 per award. Applications were rated and selected for funding on the basis of selection criteria contained in that Notice.

For the Fiscal Year 2005 competition, a total of $10,000,000 was awarded to 12 program providers nationwide.

Public Law 108-7, approved February 20, 2003 (111 Stat. 494) authorizes this two-year demonstration program. The Supportive Housing Program is authorized by Title IV, Subtitle C, of the Stewart B. McKinney-Vento Homeless Assistance Act (McKinney-Vento Act), 42 U.S.C. 11381.

In accordance with section 102(a)(4)(C) of the Department of Housing and Urban Development Reform Act of 1989 (103 Stat. 1987, 42 U.S.C. 3545), the Department is publishing the names of grantees and amounts of awards in Appendix A to this document.

Dated: August 3, 2006.
Nelson R. Bregon,
General Deputy Assistant Secretary for Community Planning and Development.

Appendix A—Fiscal Year 2005 Funding Awards for the Housing Opportunities for People Who Are Homeless and Addicted to Alcohol Program
Recipient | State | Amount
South East Tennessee Human Resource Agency | TN | $993,436.00
Community Mental Health Council, Inc | IL | 248,595.00
Contra Costa Health Services | CA | 990,307.00
Colorado Coalition for the Homeless | CO | 990,495.00
Emergency Services and Homeless Coalition of Jacksonville | FL | 894,150.00
Common Ground Community, Inc | NY | 803,628.00
Project Renewal, Inc | NY | 633,416.00
San Francisco Department of Public Health | CA | 982,033.00
ECH Lifebuilders | CA | 992,339.00
Santa Cruz County Health Services Agency | CA | 701,840.00
City of Santa Monica | CA | 712,489.00
Pathways to Housing DC | DC | 991,933.00
Total |  | 9,934,661.00

[FR Doc. E6-14344 Filed 8-28-06; 8:45 am]

BILLING CODE 4210-67-P